DEPARTMENT OF COMMERCE

National Oceanic and Atmospheric Administration

[RTID 0648-XB872]

North Pacific Fishery Management Council; Public Meeting

AGENCY: National Marine Fisheries Service (NMFS), National Oceanic and Atmospheric Administration (NOAA), Commerce.

ACTION: Notice of webconference.

SUMMARY: The North Pacific Fishery Management Council (NPFMC) Ecosystem Committee will meet March 29, 2022 through March 30, 2022.

DATES: The meeting will be held on Tuesday, March 29, 2022, through Wednesday, March 30, 2022, from 8 a.m. to 4 p.m. Alaska Time.

ADDRESSES: The meeting will be a webconference. Join online through the link at https://meetings.npfmc.org/Meeting/Details/2856.

Council address: North Pacific Fishery Management Council, 1007 W 3rd Ave., Anchorage, AK 99501-2252; telephone: (907) 271-2809. Instructions for attending the meeting are given under SUPPLEMENTARY INFORMATION, below.

FOR FURTHER INFORMATION CONTACT: Diana Evans, Council staff; phone: (907) 271-2809 and email: diana.evans@noaa.gov. For technical support, please contact administrative Council staff, email: npfmc.admin@noaa.gov.

SUPPLEMENTARY INFORMATION:

Agenda

Tuesday, March 29, 2022 Through Wednesday, March 30, 2022

The Ecosystem Committee agenda will include: (a) Bering Sea Fishery Ecosystem Plan Team report (BS FEP); (b) BS FEP Local Knowledge, Traditional Knowledge, and Subsistence Taksforce report; (c) BS FEP Climate Change Taskforce report; (d) Alaska Climate Integrated Modeling Project (ACLIM) update; (e) GOA ecosystem research staff paper; (f) OECM update; (g) EFH 5-year review status update; (h) update on planning for Council Ecosystem Workshop; and (i) other business. The agenda is subject to change, and the latest version will be posted at https://meetings.npfmc.org/Meeting/Details/2856 prior to the meeting, along with meeting materials.

Connection Information

You can attend the meeting online using a computer, tablet, or smart phone; or by phone only. Connection information will be posted online at: https://meetings.npfmc.org/Meeting/Details/2856.

Public Comment

Public comment letters will be accepted and should be submitted electronically to https://meetings.npfmc.org/Meeting/Details/2856.

Authority: 16 U.S.C. 1801 et seq.

Dated: March 7, 2022.
Tracey L. Thompson,
Acting Deputy Director, Office of Sustainable Fisheries, National Marine Fisheries Service.

[FR Doc. 2022-05046 Filed 3-9-22; 8:45 am]

BILLING CODE 3510-22-P